DEPARTMENT OF TRANSPORTATION

Federal Aviation Administration

14 CFR Part 39

[Docket No. FAA-2010-0463; Directorate Identifier 2010-CE-021-AD; Amendment 39-16280; AD 2010-10-01]

RIN 2120-AA64

Airworthiness Directives; GA 8 Airvan (Pty) Ltd Models GA8 and GA8-TC320 Airplanes

AGENCY: Federal Aviation Administration (FAA), DOT.

ACTION: Final rule; request for comments.

SUMMARY: We are adopting a new airworthiness directive (AD) for the products listed above that will supersede an existing AD. This AD results from mandatory continuing airworthiness information (MCAI) issued by the aviation authority of another country to identify and correct an unsafe condition on an aviation product. The MCAI describes the unsafe condition as:

Inspection of a high time aircraft has revealed cracks in the Horizontal Stabiliser rear spar splice plate and inboard main ribs around the area of the Horizontal Stabiliser rear pivot attachment. Additionally, failure of some attach bolts in service may be due to improper assembly.

This amendment is issued to clarify the model applicability.

The previous amendment was issued because the requirement document now contains an inspection for cracking in horizontal stabilisers which have load transferring fittings installed.

This AD requires actions that are intended to address the unsafe condition described in the MCAI.

DATES: This AD becomes effective May 10, 2010.

As of March 2, 2009 (74 FR 8159; February 24, 2009), the Director of the Federal Register approved the incorporation by reference of Gippsland Aeronautics Mandatory Service Bulletin SB-GA8-2002-02, Issue 5, dated November 13, 2008, listed in this AD.

We must receive comments on this AD by June 18, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone (800) 647-5527) is in the ADDRESSES section. Comments will be available in the AD docket shortly after receipt.

FOR FURTHER INFORMATION CONTACT: Doug Rudolph, Aerospace Engineer, 901 Locust, Room 301, Kansas City, Missouri 64106; telephone: (816) 329-4059; fax: (816) 329-4090.

SUPPLEMENTARY INFORMATION:

Discussion

On February 17, 2009, we issued AD 2009-05-01, Amendment 39-15825 (74 FR 8159; February 24, 2009). That AD required actions intended to address an unsafe condition on Model GA8 airplanes.

Since we issued AD 2009-05-01, the Civil Aviation Safety Authority (CASA), which is the aviation authority for Australia, has issued AD/GA8/5, Amdt 3, dated April 9, 2010 (referred to after this as “the MCAI”), to correct an unsafe condition for the specified products. The Australian AD clarifies the applicability of the AD to include Model GA8-TC320 airplanes. Model GA8-TC320 airplanes have the same tailplane configuration as Model GA8 airplanes. The MCAI states:

Inspection of a high time aircraft has revealed cracks in the Horizontal Stabiliser rear spar splice plate and inboard main ribs around the area of the Horizontal Stabiliser rear pivot attachment. Additionally, failure of some attach bolts in service may be due to improper assembly.

This amendment is issued to clarify the model applicability.

The previous amendment was issued because the requirement document now contains an inspection for cracking in horizontal stabilisers which have load transferring fittings installed.

You may obtain further information by examining the MCAI in the AD docket.

Relevant Service Information

Gippsland Aeronautics has issued Mandatory Service Bulletin SB-GA8-2002-02, Issue 5, dated November 13, 2008. The actions described in this service information are intended to correct the unsafe condition identified in the MCAI.

FAA's Determination and Requirements of the AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might have also required different actions in this AD from those in the MCAI in order to follow FAA policies. Any such differences are described in a separate paragraph of the AD. These requirements take precedence over those copied from the MCAI.

FAA's Determination of the Effective Date

An unsafe condition exists that requires the immediate adoption of this AD. The FAA has found that the risk to the flying public justifies waiving notice and comment prior to adoption of this rule because of potential cracking of the horizontal stabilizer structure, which could lead to failure of the tailplane assembly. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2010-0463; Directorate Identifier 2010-CE-021-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15825 (74 FR 8159; February 24, 2009), and adding the following new AD:

2010-10-01 GA 8 Airvan (Pty) Ltd: Amendment 39-16280; Docket No. FAA-2010-0463; Directorate Identifier 2010-CE-021-AD.

Effective Date

(a) This airworthiness directive (AD) becomes effective May 10, 2010.

Affected ADs

(b) This AD supersedes AD 2009-05-01, Amendment 39-15825.

Applicability

(c) This AD applies to the following model and serial number airplanes, certificated in any category:

(i) Group 1 Airplanes (retains the actions and applicability from AD 2009-05-01): Model GA8 airplanes, serial numbers GA8-00-004 and up; and

(ii) Group 2 Airplanes: Model GA8-TC320 airplanes, all serial numbers.

Subject

(d) Air Transport Association of America (ATA) Code 55: Stabilizers.

Reason

(e) The mandatory continuing airworthiness information (MCAI) states:

Inspection of a high time aircraft has revealed cracks in the Horizontal Stabiliser rear spar splice plate and inboard main ribs around the area of the Horizontal Stabiliser rear pivot attachment. Additionally, failure of some attach bolts in service may be due to improper assembly.

This amendment is issued to clarify the model applicability.

The previous amendment was issued because the requirement document now contains an inspection for cracking in horizontal stabilisers which have load transferring fittings installed.

Actions and Compliance

(f) For Group 1 Airplanes: Unless already done, do the following actions:

(1) Within the next 10 hours time-in-service (TIS) after March 2, 2009 (the effective date of AD 2009-05-01):

(i) For all aircraft not incorporating computer numeric control (CNC) machined elevator hinges, inspect and repair the left and right horizontal stabilizer rear pivot attachment installation following instruction “3. Rear Pivot Attachment Inspection,” of Gippsland Aeronautics Mandatory Service Bulletin SB-GA8-2002-02, Issue 5, dated November 13, 2008; and,

(ii) For all aircraft, inspect the left and right rear attach bolt mating surfaces for damage or an out of square condition and replace the left and right rear attach bolts following instruction “5. Rear Attach Bolt Replacement,” of Gippsland Aeronautics Mandatory Service Bulletin SB-GA8-2002-02, Issue 5, dated November 13, 2008. Reworking the mating surfaces by spotfacing is no longer acceptable. If the mating surfaces are damaged, not square, or were previously reworked by spotfacing the surface, replace the parts as specified in Gippsland Aeronautics Mandatory Service Bulletin SB-GA8-2002-02, Issue 5, dated November 13, 2008.

(2) Within the next 10 hours TIS after March 2, 2009 (the effective date of AD 2009-05-01) and repetitively thereafter at intervals not to exceed 100 hours TIS or 12 months, whichever occurs first, for all aircraft:

(i) Inspect the horizontal stabilizer externally following instruction “2. External Inspection (Lower flange, Stabilizer rear spar),” of Gippsland Aeronautics Mandatory Service Bulletin SB-GA8-2002-02, Issue 5, dated November 13, 2008; and

(ii) Inspect the horizontal stabilizer internally following instruction “4. Internal Inspection,” of Gippsland Aeronautics Mandatory Service Bulletin SB-GA8-2002-02, Issue 5, dated November 13, 2008.

(3) If during the inspection required by paragraph (f)(2) of this AD any excessive local deflection or movement of the lower skin surrounding the lower pivot attachment, cracking, or working (loose) rivet is found, before further flight, obtain an FAA-approved repair scheme from the manufacturer and incorporate this repair scheme. Due to FAA policy, the repair scheme for crack damage must include an immediate repair of the crack, not a repetitive inspection. Continued operational flight with un-repaired crack damage is not permitted.

(g) For Group 2 Airplanes: Unless already done, do the following actions:

(1) Within the next 10 hours TIS after May 10, 2010 (the effective date of this AD):

(i) For all aircraft not incorporating computer numeric control (CNC) machined elevator hinges, inspect and repair the left and right horizontal stabilizer rear pivot attachment installation following instruction “3. Rear Pivot Attachment Inspection,” of Gippsland Aeronautics Mandatory Service Bulletin SB-GA8-2002-02, Issue 5, dated November 13, 2008; and,

(ii) For all aircraft, inspect the left and right rear attach bolt mating surfaces for damage or an out of square condition and replace the left and right rear attach bolts following instruction “5. Rear Attach Bolt Replacement,” of Gippsland Aeronautics Mandatory Service Bulletin SB-GA8-2002-02, Issue 5, dated November 13, 2008. Reworking the mating surfaces by spotfacing is no longer acceptable. If the mating surfaces are damaged, not square, or were previously reworked by spotfacing the surface, before further flight, replace the parts as specified in Gippsland Aeronautics Mandatory Service Bulletin SB-GA8-2002-02, Issue 5, dated November 13, 2008.

(2) Within the next 10 hours TIS after May 10, 2010 (the effective date of this AD) and repetitively thereafter at intervals not to exceed 100 hours TIS or 12 months, whichever occurs first, for all aircraft:

(i) Inspect the horizontal stabilizer externally following instruction “2. External Inspection (Lower flange, Stabilizer rear spar),” of Gippsland Aeronautics Mandatory Service Bulletin SB-GA8-2002-02, Issue 5, dated November 13, 2008; and

(ii) Inspect the horizontal stabilizer internally following instruction “4. Internal Inspection,” of Gippsland Aeronautics Mandatory Service Bulletin SB-GA8-2002-02, Issue 5, dated November 13, 2008.

(3) If during the inspection required by paragraph (g)(2) of this AD any excessive local deflection or movement of the lower skin surrounding the lower pivot attachment, cracking, or working (loose) rivet is found, before further flight, obtain an FAA-approved repair scheme from the manufacturer and incorporate this repair scheme. Due to FAA policy, the repair scheme for crack damage must include an immediate repair of the crack, not a repetitive inspection. Continued operational flight with un-repaired crack damage is not permitted.

FAA AD Differences

Note: This AD differs from the MCAI and/or service information as follows:

(1) “Requirement: 1. Daily Inspection (Stabilizer attach bolt)” of the service information requires a daily inspection of the stabilizer attach bolt. The daily inspection is not a requirement of this AD. Instead of the daily inspection, we require you to perform, within 10 hours TIS, “Requirement 3. Rear Pivot Attachment Inspection” and “Requirement 5. Rear Attachment Bolt Replacement” of the service information. Compliance with requirement 3. and 5. is a terminating action for the daily inspection, and we are requiring these within 10 hours TIS after the effective date of this AD.

(2) “Requirement: 2. External Inspection (Lower flange, Stabilizer rear spar)” of the service information does not specify any action if excessive local deflection or movement of lower skin, cracking, or working (loose) rivet is found. We require obtaining and incorporating an FAA-approved repair scheme from the manufacturer before further flight.

(3) The MCAI does not state if further flight with known cracks is allowed. FAA policy is to not allow further flight with known cracks in critical structure. We require that if any cracks are found when accomplishing the inspection required in paragraphs (f)(2) and (g)(2) of this AD, you must repair the cracks before further flight.

(4) The service information does not state that parts with spotfaced nut and bolt mating surfaces require replacement. However, the service information no longer allows reworking of the mating surfaces by spotfacing. We require that if any nut and bolt surfaces were previously reworked by spotfacing, you must replace the parts.

(5) The service information has not been revised to include Model GA8-TC320 airplanes; however, the procedures still apply to this model, and actions must be done following the service information.

Other FAA AD Provisions

(h) The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Directorate, 901 Locust, Room 301, Kansas City, Missouri 64106; telephone: (816) 329-4059; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et. seq.), the Office of Management and Budget (OMB) has approved the information collection requirements and has assigned OMB Control Number 2120-0056.

Related Information

(i) Refer to MCAI Civil Aviation Safety Authority AD No. AD/GA8/5, Amdt 3, dated April 9, 2010; and Gippsland Aeronautics Mandatory Service Bulletin SB-GA8-2002-02, Issue 5, dated November 13, 2008, for related information.

Material Incorporated by Reference

(j) You must use Gippsland Aeronautics Mandatory Service Bulletin SB-GA8-2002-02, Issue 5, dated November 13, 2008, to do the actions required by this AD, unless the AD specifies otherwise.

(1) On March 2, 2009 (74 FR 8159; February 24, 2009), the Director of the Federal Register previously approved the incorporation by reference of Gippsland Aeronautics Mandatory Service Bulletin SB-GA8-2002-02, Issue 5, dated November 13, 2008.

(2) For service information identified in this AD, contact Gippsland Aeronautics, Attn: Technical Services, P.O. Box 881, Morwell Victoria 3840, Australia; telephone: + 61 03 5172 1200; fax: +61 03 5172 1201; Internet: http://www.gippsaero.com.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri on April 20, 2010.
Steven W. Thompson,
Acting Manager, Small Airplane Directorate, Aircraft Certification Service.

[FR Doc. 2010-10220 Filed 5-3-10; 8:45 am]

BILLING CODE 4910-13-P